ENVIRONMENTAL PROTECTION AGENCY

[EPA-R07-SFUND-2014-0700; FRL-9906-36-Region-7]

Notice of Proposed Prospective Purchaser Agreement Modification, Kansas City Structural Steel Superfund Site, Kansas City, Kansas

AGENCY: Environmental Protection Agency (EPA).

ACTION: Notice; request for public comment.

SUMMARY: Notice is hereby given that a proposed prospective purchaser agreement modification (“PPA Modification”) associated with the Kansas City Structural Steel Superfund Site in Kansas City, Kansas was executed by the Environmental Protection Agency (“EPA”) and the Department of Justice and is now subject to public comment, after which the United States may modify or withdraw its consent if comments received disclose facts or considerations which indicate that the PPA Modification is inappropriate, improper, or inadequate. The PPA Modification would replace the form of institutional controls (“ICs”) on the Site from a 1995 deed declaration to enrollment in the Kansas Environmental Use Controls (“EUC”) Program. The modification is associated with a proposed transfer of the property to a redeveloper to build a grocery and retail center on the Site. EPA will consider all comments and may modify or withdraw its consent to the PPA Modification if comments received disclose facts or considerations which indicate that the PPA Modification is inappropriate, improper, or inadequate. EPA's response to any comments received will be available for public inspection at the EPA Region 7 office located at 11201 Renner Boulevard, Lenexa, Kansas 66219.

DATES: Comments must be submitted on or before February 21, 2014.

ADDRESSES: Submit your comments, identified by Docket ID No. EPA-R07-SFUND-2014-0700, by one of the following methods:

1. http://www.regulations.gov. Follow the on-line instructions for submitting comments.

2. Email: Robert W. Richards, Senior Assistant Regional Counsel at richards.robert@epa.gov.

3. Mail: EPA-R07-SFUND-2014-0700, Robert W. Richards, Senior Assistant Regional Counsel, U.S. EPA, Region 7, 11201 Renner Boulevard, Lenexa, Kansas 66219.

4. Hand Delivery: Robert W. Richards, Senior Assistant Regional Counsel, U.S. EPA, Region 7, 11201 Renner Boulevard, Lenexa, Kansas 66219, Phone: 913-551-7502. Business Hours: Monday through Friday 9 a.m. to 4 p.m. Such deliveries are accepted only during business hours of operation, and special arrangements should be made for deliveries of boxed information.

Instructions: Direct your comments to Docket ID no. EPA-R07-SFUND-2014-0700. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index for docket ID no. EPA-R07-SFUND-2014-0700. The PPA Modification itself displays a separate EPA internal docket number (“CERCLA-PPA-2014-0007”) used for other purposes. Although listed in the index, some information may not be publicly available, i.e., CBI or other information whose disclosure is restricted by statute. Certain other material, such as copyrighted material, is not placed on the Internet and will be available only in hard copy form. Additionally, the PPA Amendment and additional background information are available for public inspection at the U.S. EPA Region 7 Office, 11201 Renner Boulevard, Lenexa, Kansas 66219. A copy of the PPA Amendment may be obtained from Kathy Robinson, Regional Hearing Clerk, U.S. EPA Region 7, 11201 Renner Boulevard, Lenexa, Kansas 66219, or robinson.kathy@epa.gov.

FOR FURTHER INFORMATION CONTACT: Robert W. Richards, Senior Assistant Regional Counsel, U.S. EPA, Region 7, 11201 Renner Boulevard, Lenexa, Kansas 66219, Phone: 913-551-7502.

SUPPLEMENTARY INFORMATION: This notice is given in accordance with the Comprehensive Environmental Response, Compensation and Liability Act of 1980 as Amended by the Superfund Amendments and Reauthorization Act of 1986, (“CERCLA”), 42 U.S.C. 9601-9675.

Dated: January 29, 2014.
Cecilia Tapia,
Division Director, Superfund Division, EPA Region 7.

[FR Doc. 2014-02697 Filed 2-6-14; 8:45 am]

BILLING CODE 6560-50-P